DEPARTMENT OF AGRICULTURE

Forest Service

Del Norte Resource Advisory Committee (RAC)

AGENCY: Forest Service, USDA.

ACTION: Notice of meeting.

SUMMARY: The Del Norte Resource Advisory Committee (RAC) will meet in Crescent City, California. The committee meeting is authorized under the Secure Rural Schools and Community Self-Determination (SRS) Act (Pub.L. 110-343) and in compliance with the Federal Advisory Committee Act.

DATES: The meeting will be held March 28, 2011, from 5 p.m. to 9 p.m.

ADDRESSES: The meeting will be held at the Del Norte County Unified School District, Redwood Room 301, West Washington Boulevard, Crescent City, California, 95531.

FOR FURTHER INFORMATION CONTACT: Adam Dellinger, Committee Coordinator, Six Rivers National Forest, at (707) 441-3569; e-mail adellinger@fs.fed.us.

SUPPLEMENTARY INFORMATION: The Del Norte County RAC will discuss how to monitor recommended projects and will vote on projects to recommend for funding. The meeting is open to the public and there will also be a public comment opportunity.

Dated: March 2, 2011.
Tyrone Kelley,
Forest Supervisor.

[FR Doc. 2011-5453 Filed 3-9-11; 8:45 am]

BILLING CODE 3410-11-P